FEDERAL COMMUNICATIONS COMMISSION

47 CFR Part 4

[PS Docket Nos. 21-346 and 15-80, ET Docket No. 04-35, FR ID 221493]

Petition for Reconsideration of Action in a Rulemaking Proceeding

AGENCY: Federal Communications Commission.

ACTION: Petition for reconsideration.

SUMMARY: In this document, the Public Safety and Homeland Security Bureau provides notice that it is seeking comment on a Petition for Reconsideration of Action in a Rulemaking Proceeding expanding network outage reporting requirements, FCC 24-5, adopted by the Commission on January 25, 2024, by Thomas Goode on behalf of Alliance for Telecommunications Industry Solutions.

DATES: Oppositions to the Petition must be filed within June 24, 2024. Replies to oppositions to the Petition must be filed July 2, 2024.

ADDRESSES: Federal Communications Commission, 445 12th Street SW, Washington, DC 20554.

FOR FURTHER INFORMATION CONTACT: For additional information on this proceeding, contact Michael Antonino of the Public Safety and Homeland Security Bureau, Cybersecurity and Communications Reliability Division, at Michael.Antonino@fcc.gov or (202) 418-7965.

SUPPLEMENTARY INFORMATION: This is a summary of the Public Safety and Homeland Security Bureau's document, DA 24-463, released May 15, 2024. The full text of the Petition can be accessed online via the Commission's Electronic Comment Filing System at: https://docs.fcc.gov/public/attachments/DA-24-463A1.pdf. The Commission will not send a Congressional Review Act (CRA) submission to Congress or the Government Accountability Office pursuant to the CRA, 5 U.S.C. 801(a)(1)(A), because no rules are being adopted by the Commission.

Subject: Resilient Networks; Amendments to Part 4 of the Commission's Rules Concerning Disruptions to Communications; New Part 4 of the Commission's Rules Concerning Disruptions to Communications (PS Docket Nos. 21-346 and 15-80, ET Docket No. 04-35).

Number of Petitions Filed: 1.

Federal Communications Commission.
Debra Jordan,
Chief, Public Safety and Homeland Security Bureau.

[FR Doc. 2024-12472 Filed 6-6-24; 8:45 am]

BILLING CODE 6712-01-P